DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of persons whose property and interests in property have been unblocked and who have been removed from the Specially Designated Nationals and Blocked Persons List (SDN List).

DATES: See SUPPLEMENTARY INFORMATION section for applicable date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Actions

On March 30, 2023, OFAC determined that the property and interests in property subject to U.S. jurisdiction of the following persons are unblocked and they have been removed from the SDN List.

Individuals

1. ZEVALLOS GONZALES, Sara Marilyn, c/o EMPRESA EDITORA CONTINENTE PRESS S.A., Lima, Peru; c/o REPRESENTACIONES ORIENTE S.R.L., Trujillo, Peru; c/o ORIENTE TOURS S.R.L., Lima, Peru; c/o PERU TOTAL MARKET E.I.R.L., Lima, Peru; c/o ORIENTE CONTRATISTAS GENERALES S.A., Trujillo, Peru; c/o SERVICIOS SILSA S.A.C., Lima, Peru; c/o LA CROSSE GROUP INC, Tortola, Virgin Islands, British; c/o AERO COURIER CARGO S.A., Lima, Peru; c/o TRANSPORTES AEREOS UNIDOS SELVA AMAZONICA S.A., Lima, Peru; Calle Trinidad Moran 1316, Lima, Peru; DOB 01 Jan 1963; LE Number 07553224 (Peru) (individual) [SDNTK].

2. TOMAGHELLI, Gaston, Buenos Aires, Argentina; DOB 17 Nov 1977; POB Argentina; nationality Argentina; Gender Male; Passport AAD186419 (Argentina); D.N.I. 26201272 (Argentina) (individual) [SDNTK] (Linked To: DTS CONSULTING S.A.).

3. ALVAREZ TOSTADO, Jose (a.k.a. CASTELLANOS ALVAREZ TOSTADO, Juan Jose); DOB 27 Aug 1955; POB Mexico (individual) [SDNTK].

4. CARBAJAL REYES, Ramon Ulises (a.k.a. CARRAJAL REYES, Ramon Ulises; a.k.a. CARVAJAL REYES, Ramon Ulises), Calle Michoacan No. 42, Int. 02, Zono Central, Doloros Hidalgo, Guanajuato, Mexico; DOB 22 Nov 1974; alt. DOB 23 Dec 1974; POB Guanajuato, Mexico; alt. POB Salamanca, Guanajuato, Mexico; nationality Mexico; citizen Mexico; R.F.C. CARR741122 (Mexico); C.U.R.P. CARR741122HGTRYM01 (Mexico); Cartilla de Servicio Militar Nacional B-8134996 (Mexico); C.U.I.P. CARR741122H11270693 (Mexico) (individual) [SDNTK].

5. REJON AGUILAR, Jesus Enrique (a.k.a. REJON AGUILAR, Jose (Jesus) Enrique), Calle Hidalgo No. 6, Col. Sabancuy, Carmen, Campeche C.P. 24370, Mexico; DOB 09 Jun 1976; alt. DOB 01 Jan 1970; POB Campeche; nationality Mexico; citizen Mexico; C.U.R.P. REAJ760609HCCJGS02 (Mexico); Cartilla de Servicio Militar Nacional C720867 (Mexico); C.U.I.P. REAE760609H04151249 (Mexico) (individual) [SDNTK].

6. QUINTERO CABALLERO, Luis Ramiro, Carrera 56 No. 81-98, Apt. 9B, Edificio Galery El Golf, Barranquilla, Colombia; Carrera 52B 100-240, Barranquilla, Colombia; DOB 23 Jan 1980; POB Santa Marta, Magdalena, Colombia; Cedula No. 7604133 (Colombia) (individual) [SDNTK] (Linked To: INTERNACIONAL MONEY SERVICIO LTDA.; Linked To: INVERSIONES Y REPRESENTACIONES EL CAIRO LTDA.; Linked To: EL KAIRO INTERNACIONAL SAS).

7. PELAEZ LOPEZ, John Jairo, c/o RENTA LIQUIDA S.A.S., Medellin, Antioquia, Colombia; Calle 32B Sur No. 47-51 Apto. 801, Envigado, Antioquia, Colombia; Calle 46 No. 86-24, Medellin, Colombia; DOB 05 Sep 1957; Cedula No. 3356399 (Colombia) (individual) [SDNT].

8. GRAJALES LEMOS, Juan Jacobo (a.k.a. GRAJALES LEMOS, Javier), c/o CRETA S.A., La Union, Valle, Colombia; c/o GRAJALES S.A., La Union, Valle, Colombia; c/o HOTEL LOS VINEDOS, La Union, Valle, Colombia; c/o SALIM S.A., La Union, Valle, Colombia; c/o TRANSPORTES DEL ESPIRITU SANTO S.A., La Union, Valle, Colombia; c/o JEHOVA LTDA., Tulua, Valle, Colombia; c/o FUNDACION CENTRO FRUTICOLA ANDINO, La Union, Valle, Colombia; DOB 28 Oct 1972; POB La Union, Valle, Colombia; Cedula No. 94273951 (Colombia) (individual) [SDNT].

9. GALLON ARISTIZABAL, Mariana, Colombia; DOB 04 Nov 1992; POB Medellin, Antioquia, Colombia; Gender Female; Cedula No. 1152443588 (Colombia) (individual) [SDNTK] (Linked To: CLAMASAN S.A.S.; Linked To: GUISANES S.A.S.; Linked To: AGROPECUARIA MAIS SOCIEDAD POR ACCIONES SIMPLIFICADA; Linked To: AGROINDUSTRIAS CIMA S.A.S.).

10. CHENG, Guifeng, China; DOB 02 Feb 1958; nationality China; Gender Female; National ID No. 31010819580202164 (China) (individual) [SDNTK].

11. CAZAREZ PEREZ, Efrain (a.k.a. CAZARES PEREZ, Efrain), Calle Torre de Londres No. 7028, Fraccionamiento Las Torres, Culiacan, Sinaloa, Mexico; c/o CAZPER IMPORTACIONES, S.A. DE C.V., Culiacan, Sinaloa, Mexico; DOB 16 May 1965; POB Campo Loaiza, Sinaloa, Mexico; nationality Mexico; citizen Mexico; Electoral Registry No. CAPE6505164F5 (Mexico) (individual) [SDNTK].

12. CAZAREZ PEREZ, Maria Tiburcia (a.k.a. CAZARES PEREZ, Maria Tiburcia), Calle Isla del Oeste No. 103, La Primavera, Culiacan, Sinaloa, Mexico; c/o CAZPER IMPORTACIONES, S.A. DE C.V., Culiacan, Sinaloa, Mexico; DOB 14 Oct 1962; POB Campo Tribolet, Perteneciente a la sindicatura de Sataya, Navolato, Sinaloa; nationality Mexico; citizen Mexico; C.U.R.P. CAPT621014MSLZRB00 (Mexico); Electoral Registry No. CAPT6210144PA (Mexico) (individual) [SDNTK].

13. CAZAREZ PEREZ, Irma (a.k.a. CAZARES PEREZ, Irma), Calle Isla del Oeste No. 103, La Primavera, Culiacan, Sinaloa, Mexico; c/o CAZPER IMPORTACIONES, S.A. DE C.V., Culiacan, Sinaloa, Mexico; DOB 27 Sep 1956; POB Zapote de los Moya, Mocorito, Sinaloa, Mexico; nationality Mexico; citizen Mexico; C.U.R.P. CAPI560927MSLZRR15 (Mexico); alt. C.U.R.P. CAPI560927MSLZRR07 (Mexico); Electoral Registry No. CAPI560927RF4 (Mexico) (individual) [SDNTK].

Entities

1. CAZPER IMPORTACIONES, S.A. DE C.V., Ave. Manuel Vallarta No. 2144, Col. Centro, Culiacan, Sinaloa, Mexico; Ave. Manuel Vallarta No. 2136, Col. Centro, Culiacan, Sinaloa, Mexico; Ave. Manuel Vallarta #2136-1, Col. Centro Sinaloa, Culiacan, Sinaloa, Mexico; Ave Manuel Vallarta 2136, Centro Culiacan Fray Servando Teresa de Mier E, Culiacan de Rosales, Culiacan 80129, Mexico; website www.cazper.com.mx; R.F.C. CIM040429UH4 (Mexico) [SDNTK].

2. DTS CONSULTING S.A., 25 de Mayo 611, piso 4 of. 2, Buenos Aires, Argentina [SDNTK].

3. EL KAIRO INTERNACIONAL SAS, Carrera 15 No. 93-60 Local 1-21, Bogota, Colombia; NIT #900376699-6 (Colombia); Matricula Mercantil No 02018260 (Colombia) [SDNTK].

4. INVERSIONES Y REPRESENTACIONES EL CAIRO LTDA., Calle 76 No. 48-30, Barranquilla, Colombia; NIT #802013384-9 (Colombia) [SDNTK].

5. INTERNACIONAL MONEY SERVICIO LTDA., Calle 76 No. 48-30, Barranquilla, Colombia; Carrera 15 No. 93-60 Local 1-21, Bogota, Colombia; Cra. 15 No. 119-59, Int. 308, Bogota, Colombia; NIT #8301427473 (Colombia); alt. NIT #9003766996 (Colombia) [SDNTK].

6. OYSTER INVESTMENTS LLC, Lewes, DE, United States; 1250 S Miami Ave., Unit 1004, Miami, FL, United States; 1250 S Miami Ave., Unit 1603, Miami, FL, United States; 170 SE 14 St., Unit 1606, Miami, FL, United States; 170 SE 14 St., Unit 2405, Miami, FL, United States; File Number 5277495 (United States) [SDNTK].

7. RENTA LIQUIDA S.A.S., Calle 16 Sur No. 48-17 Apto. 503, Medellin, Colombia; Calle 32B Sur No. 47-51, Envigado, Antioquia, Colombia; Calle 46 No. 86-24, Medellin, Colombia; NIT #900316915-6 (Colombia) [SDNT].

8. SMILEWALLET B.V., Herengracht 420, Amsterdam 1017BZ, Netherlands; website www.smilewallet.com; Chamber of Commerce Number 70004676 (Netherlands); RSIN 858100034 (Netherlands) [SDNTK].

9. WATER HILL CORP., Miami, FL, United States; Identification Number P16000064887 (United States) [SDNTK].

Dated: March 30, 2023.
Gregory T. Gatjanis,
Associate Director, Office of Foreign Assets Control, U.S. Department of the Treasury.

[FR Doc. 2023-06957 Filed 4-3-23; 8:45 am]

BILLING CODE 4810-AL-P